DEPARTMENT OF TRANSPORTATION

Federal Aviation Administration

14 CFR Part 39

[Docket No. 99-NM-331-AD; Amendment 39-11769; AD 2000-11-21]

RIN 2120-AA64

Airworthiness Directives; Airbus Model A319, A320, and A321 Series Airplanes

AGENCY: Federal Aviation Administration, DOT.

ACTION: Final rule; correction.

SUMMARY: This document corrects information in an existing airworthiness directive (AD) that applies to certain Airbus Model A319, A320, and A321 series airplanes. That AD currently requires a one-time general visual inspection to determine the part number and serial number of the spoiler servocontrol, and corrective action, if necessary. This document corrects the type of inspection required by this AD, and corrects references to certain paragraphs of the applicable service bulletins. These corrections are necessary to ensure that operators are notified of the type of inspection required and the correct paragraph references of the applicable service bulletins.

DATES: Effective July 18, 2000.

The incorporation by reference of certain publications listed in the regulations was approved previously by the Director of the Federal Register as of July 18, 2000 (65 FR 37017, June 13, 2000).

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: On June 1, 2000, the Federal Aviation Administration (FAA) issued AD 2000-11-21, amendment 39-11769, which applies to certain Airbus Model A319, A320, and A321 series airplanes. That AD requires a one-time general visual inspection to determine the part number and serial number of the spoiler servocontrol, and corrective action, if necessary. That AD was prompted by issuance of mandatory continuing airworthiness information by a foreign civil airworthiness authority. The actions required by that AD are intended to prevent failure of the spoiler servocontrol piston rod, which could result in reduced controllability of the airplane.

Need for the Correction

Paragraph (a) of AD 2000-11-21 specifies a “general visual inspection.” However, the FAA points out that since the inspection is to determine the part number and serial number of certain components, it is unnecessary to require a general visual inspection. Likewise, it is unnecessary to include the definition of that inspection in Note 2 following paragraph (a) of that AD. Instead, the FAA considers that an “inspection” rather than a “general visual inspection” adequately describes the action required by this AD to determine the part number and serial number for the spoiler servocontrols. Paragraph (a) of this AD reflects these changes.

In addition, the FAA recently obtained information that paragraphs (a) and (b) of AD 2000-11-21 contain incorrect paragraph references to the applicable service bulletins. The information specifies that paragraph (a) should reference paragraph 3.B.(1)(b) instead of paragraph 2.B.(1)(b) of the applicable service bulletins, and that paragraph (b) should reference paragraph 3.B.(1)(b)1 instead of paragraph 2.B.(1)(b)1. However, the FAA points out that paragraphs 2.B.(1)(b) and 2.B.(1)(b)1 are the correct paragraph references specified by Airbus Service Bulletin A320-17-1126 and A320-27-1127, both dated April 26, 1999. In addition, paragraphs 3.B.(1)(b) and 3.B.(1)(b)1 are the correct paragraph references specified by Revision 01 of those service bulletins, both dated October 6, 1999. Therefore, in paragraph (a) of this AD, the FAA has added a reference to paragraph 3.B(1)(b) of Revision 01 of the service bulletins, and in paragraph (b) of this AD, the FAA has added a reference to paragraph 3.B(1)(b)1 of Revision 01 of the service bulletins.

The FAA has determined that such corrections to paragraphs (a) and (b) of AD 2000-11-21 are necessary. These corrections will ensure that operators are notified of the correct type of inspection required by this AD, and the correct paragraph references of the applicable service bulletins.

Correction of Publication

This document corrects the type of inspection required by this AD, corrects certain paragraph references to the applicable service bulletins, and adds the AD as an amendment to section 39.13 of the Federal Aviation Regulations (14 CFR 39.13).

The AD is reprinted in its entirety for the convenience of affected operators. The effective date of the AD remains July 18, 2000.

Since this action only corrects the type of inspection required (and removes Note 2 defining the previously specified inspection), and corrects certain paragraph references to the applicable service bulletins, it has no adverse economic impact and imposes no additional burden on any person. Therefore, the FAA has determined that notice and public procedures are unnecessary.

List of Subject in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2000 21 Airbus Industrie: Amendment 39-11769. Docket 99-NM-331-AD.

Applicability: The following models, certificated in any category, excluding those on which Airbus Service Bulletin A320-27-1126, dated April 26, 1999 (for Model A319 and 321 series airplanes); or A320-27-1127, dated April 26, 1999, or Revision 01, dated October 6, 1999 (for Model A320 series airplanes); has been accomplished:

• Model A319 series airplanes, serial numbers (S/N) 0546 through 0972 inclusive;

• Model A320 series airplanes, S/N 0002 through 0842 inclusive, 0846 through 0859 inclusive, 0865, 0866, and 0872 through 0960 inclusive; and

• Model A321 series airplanes, S/N 0364 through 0974 inclusive.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the servocontrol piston rod, which could result in reduced controllability of the airplane, accomplish the following:

Inspection

(a) At the applicable time specified by paragraph (a)(1) or (a)(2) of this AD: Perform an inspection to determine the part number and serial number for the spoiler servocontrols, in accordance with Airbus Service Bulletin A320-27-1126, dated April 26, 1999, or Revision 01, dated October 6, 1999 (for Model A319 and A321 series airplanes); or Airbus Service Bulletin A320-27-1127, dated April 26, 1999, or Revision 01, dated October 6, 1999 (for Model A320 series airplanes); as applicable. If the part number and serial number are identified in paragraph 2.B.(1)(b) of the Accomplishment Instructions of the original service bulletins, or in paragraph 3.B.(1)(b) of the Accomplishment Instructions of Revision 01 of the service bulletins; as applicable; prior to further flight, perform applicable corrective actions (including removal, reidentification of the servocontrol, and replacement of the servocontrol with a modified part) as specified in the applicable service bulletin.

(1) For Model A319 and A321 series airplanes: Inspect within 2 months after the effective date of this AD.

(2) For Model A320 series airplanes: Inspect within 28 months after the effective date of this AD.

Spares

(b) As of the effective date of this AD, no person shall install on any airplane a spoiler servocontrol having part number 31077-050, 31077-060, or 31077-110; and S/N 0001 to 3499, except those serial numbers excluded in paragraph 2.B.(1)(b)1 of the Accomplishment Instructions of Airbus Service Bulletin A320-27-1126, dated April 26, 1999; or in paragraph 3.B.(1)(b)1 of the Accomplishment Instructions of Airbus Service Bulletin A320-27-1126, Revision 01, dated October 6, 1999; unless that servocontrol has been inspected, and corrective actions have been performed, in accordance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Airbus Service Bulletin A320-27-1126, including Appendices 01 and 02, dated April 26, 1999; Airbus Service Bulletin A320-27-1126, Revision 01, including Appendices 01 and 02, dated October 6, 1999; Airbus Service Bulletin A320-27-1127, including Appendices 01 and 02, dated April 26, 1999; or Airbus Service Bulletin A320-27-1127, Revision 01, including Appendices 01 and 02, dated October 6, 1999, as applicable. The incorporation by reference of these documents was approved previously by the Director of the Federal Register as of July 18, 2000 (65 FR 37017, June 13, 2000). Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 1999-362-139(B), dated September 8, 1999.

Effective Date

(f) The effective date of this amendment remains July 18, 2000.

Issued in Renton, Washington, on August 8, 2000.
Donald L. Riggin,
Acting Manager, Transport Airplane Directorate, Aircraft Certification Service.

[FR Doc. 00-20504 Filed 8-11-00; 8:45 am]

BILLING CODE 4910-13-U